DEPARTMENT OF COMMERCE

National Oceanic and Atmospheric Administration

RIN: 0648-XF78

North Pacific Fishery Management Council; Public Meeting

AGENCY: National Marine Fisheries Service (NMFS), National Oceanic and Atmospheric Administration (NOAA), Commerce.

ACTION: Notice of a public committee meeting.

SUMMARY: The North Pacific Fishery Management Council's (Council) Steller Sea Lion Mitigation Committee (SSLMC) will meet in Anchorage, AK.

DATES: The meetings will be held March 10, 2008 through March 14, 2008, from 8:30 a.m. to 5 p.m.

ADDRESSES: The meetings will be held at the Hawthorne Suite, 1110 West 8th Avenue, Ballroom B, Anchorage, AK.

Council address: North Pacific Fishery Management Council, 605 W. 4th Ave., Suite 306, Anchorage, AK 99501-2252.

FOR FURTHER INFORMATION CONTACT: Bill Wilson, North Pacific Fishery Management Council; telephone: (907) 271-2809.

SUPPLEMENTARY INFORMATION: The Committee will analyze proposals and develop preliminary recommendations on alternatives to modify fishery management measures.

Special Accommodations

These meetings are physically accessible to people with disabilities. Requests for sign language interpretation or other auxiliary aids should be directed to Gail Bendixen, (907) 271-2809, at least 5 working days prior to the meeting date.

Dated: February 20, 2008.
Tracey L. Thompson,
Acting Director, Office of Sustainable Fisheries Service, National Marine Fisheries Service.

[FR Doc. E8-3429 Filed 2-22-08; 8:45 am]

BILLING CODE 3510-22-S